DEPARTMENT OF ENERGY

Federal Energy Regulatory Commission

[Docket No. CP11-144-000]

El Paso Natural Gas Company; Notice of Request Under Blanket Authorization

Take notice that on March 22, 2011, El Paso Natural Gas Company (El Paso), Post Office Box 1087, Colorado Springs, CO 80944, filed a prior notice request pursuant to sections 157.205(b) and 157.208(f) of the Federal Energy Regulatory Commission's regulations and pursuant to El Paso's Part 157 blanket certificate issued in Docket No. CP82-435-000. El Paso proposes to increase the certificated Maximum Allowable Operating Pressure (MAOP) of a 1.2 mile, 2-inch outer-diameter segment of pipe located in El Paso County, Texas. Specifically, El Paso requests authorization to increase the certificated MAOP of a segment of Line No. 2053 running from the El Paso-Douglas Line to the U.S. Detention Prison from its currently certificated MAOP of 700 psig to 837 psig. El Paso avers the increase in MAOP will reduce operational and maintenance cost by eliminating the need to monitor and maintain pressure control and overpressure protection equipment. El Paso also states that there will be no effect to capacity on either the segment being increased or the remainder of Line No. 2053, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Any questions regarding this application should be directed to Susan C. Stires, Post Box Office 1087, Colorado Springs, CO 80944, telephone no. (719) 667-7514, facsimile no. (719) 667-7534, and e-mail: EPNGregulatoryaffairs@elpaso.com.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

Persons who wish to comment only on the environmental review of this project should submit an original and two copies of their comments to the Secretary of the Commission. Environmental commenter's will be placed on the Commission's environmental mailing list, will receive copies of the environmental documents, and will be notified of meetings associated with the Commission's environmental review process. Environmental commenter's will not be required to serve copies of filed documents on all other parties. However, the non-party commentary, will not receive copies of all documents filed by other parties or issued by the Commission (except for the mailing of environmental documents issued by the Commission) and will not have the right to seek court review of the Commission's final order.

The Commission strongly encourages electronic filings of comments, protests, and interventions via the Internet in lieu of paper. See 18 CFR 385.2001(a)(1)(iii) and the instructions on the Commission's Web site (http://www.ferc.gov) under the “e-Filing” link.

Dated: March 30, 2011 .
Kimberly D. Bose,
Secretary.

[FR Doc. 2011-8020 Filed 4-4-11; 8:45 am]

BILLING CODE 6717-01-P